Title3—

The President

Executive Order 13498 of February 5, 2009

Amendments to Executive Order 13199 and Establishment of the President’s Advisory Council for Faith-Based and Neighborhood Partnerships

By the authority vested in me as President by the Constitution and the laws of the United States of America, and in order to strengthen the ability of faith-based and other neighborhood organizations to deliver services effectively in partnership with Federal, State, and local governments and with other private organizations, while preserving our fundamental constitutional commitments, it is hereby ordered:

Section 1. Amendments to Executive Order. Executive Order 13199 of January 29, 2001 (Establishment of White House Office of Faith-Based and Community Initiatives), is hereby amended:

(a) by striking section 1, and inserting in lieu thereof the following:

“Section 1. Policy. Faith-based and other neighborhood organizations are vital to our Nation’s ability to address the needs of low-income and other underserved persons and communities. The American people are key drivers of fundamental change in our country, and few institutions are closer to the people than our faith-based and other neighborhood organizations. It is critical that the Federal Government strengthen the ability of such organizations and other nonprofit providers in our neighborhoods to deliver services effectively in partnership with Federal, State, and local governments and with other private organizations, while preserving our fundamental constitutional commitments guaranteeing the equal protection of the laws and the free exercise of religion and forbidding the establishment of religion. The Federal Government can preserve these fundamental commitments while empowering faith-based and neighborhood organizations to deliver vital services in our communities, from providing mentors and tutors to school children to giving ex-offenders a second chance at work and a responsible life to ensuring that families are fed. The Federal Government must also ensure that any organization receiving taxpayers’ dollars must be held accountable for its performance. Through rigorous evaluation, and by offering technical assistance, the Federal Government must ensure that organizations receiving Federal funds achieve measurable results in furtherance of valid public purposes.”

(b) by substituting “White House Office of Faith-Based and Neighborhood Partnerships” for “White House Office of Faith-Based and Community Initiatives” each time it appears in the order; and by substituting “Office” for “White House OFBCI” each time it appears in the order.

(c) in section 3, by inserting after subsection (b) the following new subsections:

“(c) to ensure that services paid for with Federal Government funds are provided in a manner consistent with fundamental constitutional commitments guaranteeing the equal protection of the laws and the free exercise of religion and prohibiting laws respecting an establishment of religion;

(d) to promote effective training for persons providing federally funded social services in faith-based and neighborhood organizations;

(e) to promote the better use of program evaluation and research, in order to ensure that organizations deliver services as specified in grant agreements, contracts, memoranda of understanding, and other arrangements;”,

and renumbering the subsequent subsections of section 3 accordingly.

(d) in section 4, by striking the first sentence of subsection (b), and inserting in lieu thereof the following: "The Office shall have a staff to be headed by the Special Assistant to the President and Executive Director of the White House Office of Faith-Based and Neighborhood Partnerships (Executive Director)."

Sec. 2. President’s Advisory Council on Faith-Based and Neighborhood Partnerships. (a) Establishment. There is established within the Executive Office of the President the President’s Advisory Council on Faith-Based and Neighborhood Partnerships (Council).

(b) Mission. The Council shall bring together leaders and experts in fields related to the work of faith-based and neighborhood organizations in order to: identify best practices and successful modes of delivering social services; evaluate the need for improvements in the implementation and coordination of public policies relating to faith-based and other neighborhood organizations; and make recommendations to the President, through the Executive Director, for changes in policies, programs, and practices that affect the delivery of services by such organizations and the needs of low-income and other underserved persons in communities at home and around the world.

(c) Membership. (1) The Council shall be composed of not more than 25 members appointed by the President from among individuals who are not officers or employees of the Federal Government. The members shall be persons with experience and expertise in fields related to the provision of social services by faith-based and other neighborhood organizations.

(2) Members of the Council shall serve for terms of 1 year, and may continue to serve after the expiration of their terms until the President appoints a successor. Members shall be eligible for reappointment and serve at the pleasure of the President during their terms.

(3) The President shall designate a member of the Council to serve as Chair for a term of 1 year at the pleasure of the President. The Chair may continue to serve after the expiration of the Chair’s term and shall be eligible for redesignation by the President.

(4) The Executive Director of the White House Office of Faith-Based and Neighborhood Partnerships shall also serve as Executive Director of the Council.

(5) The Council shall have a staff headed by the Executive Director.

(d) Administration. (1) Upon the request of the Chair, with the approval of the Executive Director, the heads of executive departments and agencies shall, to the extent permitted by law, provide the Council with information it needs for purposes of carrying out its mission.

(2) With the approval of the Executive Director, the Council may request and collect information, hold hearings, establish subcommittees, and establish task forces consisting of members of the Council or other individuals who are not officers or employees of the Federal Government, as necessary to carry out its mission.

(3) With the approval of the Executive Director, the Council may conduct analyses and develop reports or other materials as necessary to perform its mission.

(4) Members of the Council shall serve without compensation, but shall be allowed travel expenses, including per diem in lieu of subsistence, as authorized by law for persons serving intermittently in Government service (5 U.S.C. 5701B5707) to the extent funds are available.

(5) To the extent permitted by law, and subject to the availability of appropriations, the Department of Health and Human Services shall provide the Council with administrative support and with such funds as may be necessary for the performance of the Council’s functions.

(e) General Provisions. (1) Insofar as the Federal Advisory Committee Act, as amended (5 U.S.C. App.) (Act), may apply to the Council, any functions of the President under that Act, except for those in section 6 of the Act, shall be performed by the Secretary of Health and Human Services in accordance with guidelines issued by the Administrator of General Services.

(2) The Council shall terminate 2 years from the date of this order unless extended by the President.

Sec. 3. General Provisions. (a) Nothing in this order shall be construed to impair or otherwise affect:

(1) authority granted by law to a department, agency, or the head thereof; or

(2) functions of the Director of the Office of Management and Budget relating to budget, administrative, or legislative proposals.

(b) This order shall be implemented consistent with applicable law and subject to the availability of appropriations.

(c) In order to ensure that Federal programs and practices involving grants or contracts to faith-based organizations are consistent with law, the Executive Director, acting through the Counsel to the President, may seek the opinion of the Attorney General on any constitutional and statutory questions involving existing or prospective programs and practices.

(d) This order is not intended to, and does not, create any right or benefit, substantive or procedural, enforceable at law or in equity by any party against the United States, its departments, agencies, or entities, its officers, employees, or agents, or any other person.

THE WHITE HOUSE,

February 5, 2009.

[FR Doc. E9-2893 Filed 2-6-09; 12:00 pm]

Filed 2-6-09; 12:00 pm]

BILLING CODE 3195-W9-P